DEPARTMENT OF DEFENSE

Department of the Air Force

[Docket ID USAF-2018-HQ-0004]

Proposed Collection; Comment Request

AGENCY: Department of the Air Force, DoD.

ACTION: Information collection notice.

SUMMARY: In compliance with the Paperwork Reduction Act of 1995, the Department of the Air Force announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 20, 2018.

ADDRESSES: You may submit comments, identified by docket number and title, by any of the following methods:

• Federal eRulemaking Portal: http://www.regulations.gov. Follow the instructions for submitting comments.

• Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Chief Operations Division, Headquarters Air Force Recruiting Service, 550 D Street West Suite 1, Randolph AFB, TX 78150-4527, or call 703-862-3746.

SUPPLEMENTARY INFORMATION:

Title; Associated Form; and OMB Number: Air Force Recruiting Information Support System—Total Force (AFRISS-TF); OMB Control Number 0701-0150.

Needs and Uses: The system will provide field recruiters an automated tool to process prospective Active, Guard and Reserve applicants; evaluate recruiter's and job counselor's activity and efficiency levels; and analyze pre-enlistment job cancellations for common reasons.

Affected Public: Individuals or Households.

Annual Burden Hours: 4,500,000.

Number of Respondents: 1,500,000.

Responses per Respondent: 1.

Annual Responses: 1,500,000.

Average Burden per Response: 3 hours.

Frequency: On occasion.

The Air Force (AF) Active, Air National Guard (ANG), and Air Force Reserve Command (AFRC) duty field recruiters have a need for an automated tool to initially build prospective enlistees for all recruiting accessions for Enlisted, Officer, and Health Professions. Air Force Recruiting Information Support System-Total Force (AFRISS-TF) provides a comprehensive integration, interface, and standardization of all programs that manage personnel resources in support of recruiting and collecting personnel private information required to induct into the Armed Forces.

The system extends automated capabilities out to the individual recruiter, flight, squadron, and groups. It provides an automated interface to Military Entrance Processing Center Station (MEPS) where applicants undergo physical, testing, verification interviews, and tentative job reservation that can be entered into AFRISS-TF. It also provides reporting capabilities at all levels of management to make informed decisions on recruiting practices.

Dated: June 14, 2018.
Aaron T. Siegel,
Alternate OSD Federal Register Liaison Officer, Department of Defense.

[FR Doc. 2018-13122 Filed 6-18-18; 8:45 am]

BILLING CODE 5001-06-P